ENVIRONMENTAL PROTECTION AGENCY

[EPA-HQ-OAR-2006-0947, FRL 8317-4]

Agency Information Collection Activities: Submission to OMB for Review and Approval; Comment Request; NOX Budget Trading Program to Reduce the Regional Transport of Ozone, EPA ICR Number 1857.04, OMB Control Number 2060-0445

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments must be submitted on or before June 25, 2007.

ADDRESSES: Submit your comments, referencing Docket ID No. EPA-HQ-OAR-2006-0947, to (1) EPA online using www.regulations.gov (our preferred method), by e-mail to a-and-r-docket@epamail.epa.gov, or by mail to: EPA Docket Center, Environmental Protection Agency, Air and Radiation Docket and Information Center, Environmental Protection Agency, Mailcode: 6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Kenon Smith,, Clean Air Markets Division, Office of Air and Radiation, (6204J), Environmental Protection Agency, 1200 Pennsylvania Ave., NW., Washington, DC 20460; telephone number: 202-343-9164; fax number: 202-343-2361; e-mail address: smith.kenon@epa.gov.

SUPPLEMENTARY INFORMATION: EPA has submitted the following ICR to OMB for review and approval according to the procedures prescribed in 5 CFR 1320.12. On December 6, 2006 (71 FR 70756), EPA sought comments on this ICR pursuant to 5 CFR 1320.8(d). EPA received no comments during the comment period. Any additional comments on this ICR should be submitted to EPA and OMB within 30 days of this notice.

EPA has established a public docket for this ICR under Docket ID No. EPA-HQ-OAR-2006-0947, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Rom is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: NOX Budget Trading Program to Reduce the Regional Transport of Ozone.

ICR Numbers: EPA ICR no. 1857.04, OMB Program Control No. 2060-0445.

ICR status: This ICR is currently scheduled to expire on May 31, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in theFederal Register or by other appropriate means, such as on the related collection instrument or form, if applicable. The display of OMB control numbers in certain EPA regulation is consolidated in 40 CFR part 9.

Abstract: The NOX Budget Trading Program is a market-based cap and trade program created to reduce emissions of nitrogen oxides (NOX) from power plants and other large combustion sources in the eastern United States. NOX is a prime ingredient in the formation of ground-level ozone (smog), a pervasive air pollution problem in many areas of the eastern United States. The NOX Budget Trading program was designed to reduce NOX emissions during the warm summer months, referred to as the ozone season, when ground-level ozone concentration are highest. This information collection is necessary to implement the NOX Budget Trading Program. While States were not required to adopt an emissions trading program, every State adopted the basic Federal model trading program for fossil fuel-fired NOX sources. This trading program burden includes the paper work burden related to; transferring and tracking allowances, the allocation of allowances to affected units, permitting, annual year end compliance certification, and meeting the monitoring and reporting requirements of the program. This information collection is mandatory under 40 CFR part 96. All data received by EPA will be treated as public information. An agency may not conduct or sponsor, and a person is not required to respond to, a collection of information unless it displays a currently valid OMB control number. The OMB control numbers for EPA's regulations in 40 CFR are listed in 40 CFR part 9.

Burden Statement: The annual public reporting and recordkeeping burden for this collection of information is estimated to average 41 hours per response. Burden means the total time, effort, or financial resources expended by persons to generate, maintain, retain, or disclose or provide information to or for a Federal agency. This includes the tie needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Electric Utilities, Industrial Sources, and other persons.

Estimated Number of Respondents: 700.

Frequency of Response: On occasion, quarterly, and annually.

Estimated Total Annual Hour Burden: 471,734.

Estimated Total Annual Cost: $57,069,211, includes $28,278,800 annualized capital or O&M costs.

Changes in the Estimates: There is a decrease of 11,335 hours in the total estimated burden currently identified in the OMB Inventory of Approved ICR Burdens. This is due to adjustments, including changes to the number of responses and the time it takes to respond to a particular activity.

Dated: May 17, 2007.
Sara Hisel-McCoy,
Acting Director, Collection Strategies Division.

[FR Doc. 07-2586 Filed 5-23-07; 8:45 am]

BILLING CODE 6560-50-M